DEPARTMENT OF HOMELAND SECURITY

Coast Guard

[Docket No. USCG-2010-0164]

National Boating Safety Advisory Council

AGENCY: Coast Guard, DHS.

ACTION: Notice of Federal Advisory Committee Meeting.

SUMMARY: The National Boating Safety Advisory Council (NBSAC) will meet on May 8-9, 2014, in Arlington, VA, to discuss issues relating to recreational boating safety. The meetings will be open to the public.

DATES: NBSAC will meet Thursday, May 8, 2014, from 9:00 a.m. to 5:00 p.m. and Friday, May 9, 2014, from 9:00 a.m. to 12:00 p.m. Please note that the meetings may conclude early if NBSAC has completed all business.

ADDRESSES: The meeting will be held in the Ballroom of the Holiday Inn Arlington (http://www.hiarlington.com), 4610 N Fairfax Drive, Arlington, VA 22203.

For information on facilities or services for individuals with disabilities or to request special assistance at the meeting, contact Mr. Jeff Ludwig, Alternate Designated Federal Officer (ADFO), telephone 202-372-1061, or at Jeffrey.a.ludwig@uscg.mil.

To facilitate public participation, we are inviting public comment on the issues to be considered by the committee as listed in the “Agenda” section below. Written comments for distribution to Council members must be submitted no later than April 30, 2014, and must be identified by (USCG-2010-0164) and may be submitted by one of the following methods:

• Federal eRulemaking Portal: http://www.regulations.gov.

Follow the instructions for submitting comments (preferred method to avoid delays in processing).

• Fax: (202) 372-1908.

• Mail: Docket Management Facility (M-30), U.S. Department of Transportation, West Building Ground Floor, Room W12-140, 1200 New Jersey Avenue SE., Washington, DC 20590-0001.

• Hand Delivery: Same as mail address above between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding public dockets in the January 17, 2008, issue of the Federal Register (73 FR 3316).

Docket: For access to the docket to read documents or comments related to this notice, go to http://www.regulations.gov, enter the docket number in the “Search” field and follow instructions on the Web site.

Public oral comment periods will be held each day. Speakers are requested to limit their comments to 3 minutes. Please note that the public comment periods may end before the time indicated, following the last call for comments. Contact Mr. Jeffrey Ludwig as indicated below to register as a speaker.

FOR FURTHER INFORMATION CONTACT: Mr. Jeff Ludwig, ADFO for NBSAC, telephone (202) 372-1061, or at jeffrey.a.ludwig@uscg.mil. If you have questions on viewing or submitting material to the docket, call Cheryl Collins, Program Manager, Docket Operations, telephone 202-366-9826.

SUPPLEMENTARY INFORMATION: Notice of this meeting is given under the Federal Advisory Committee Act (FACA), 5 U.S.C. Appendix 2. Congress established NBSAC in the Federal Boat Safety Act of 1971 (Pub. L. 92-75). NBSAC currently operates under the authority of 46 U.S.C. 13110, which requires the Secretary of Homeland Security and the Commandant of the Coast Guard by delegation to consult with NBSAC in prescribing regulations for recreational vessels and associated equipment, and on other major safety matters. See 46 U.S.C. 4302(c) and 13110(c).

Meeting Agenda

The agenda for the NBSAC meeting is as follows:

Thursday, May 8, 2014

(1) Opening Remarks, Swearing-In of New Members and Presentation of Awards to Outgoing Members.

(2) Receipt and discussion of the following reports:

(a) Chief, Office of Auxiliary and Boating Safety, Update on the Coast Guard's implementation of NBSAC Resolutions and Recreational Boating Safety Program report.

(b) Alternate Designated Federal Officer's report concerning Council administrative and logistical matters.

(3) Presentation and discussion on the Uniform Certificate of Title Act—Vessel (UCOTA-V).

(4) Presentation and discussion on the Coast Guard's life jacket carriage requirements and exemptions found in 33 CFR 175.

(5) Presentation and discussion on the Coast Guard's progress in implementing NBSAC's Recommendation Regarding the Development of New Life Jacket Standards and Approval Processes for Life Jackets.

(6) Receipt and Discussion of the Strategic Planning Subcommittee report.

(7) Public comment.

Friday, May 9, 2014

(1) Receipt and Discussion of the Boats and Associated Equipment and Prevention through People Subcommittee reports.

(2) Discussion of any recommendations to be made to the Coast Guard.

(3) Public comment period.

There will be a comment period for NBSAC and a comment period for the public after each subcommittee report, but before each recommendation is formulated. The Council will review the information presented on each issue, deliberate on any recommendations presented in the subcommittee reports, and formulate recommendations for the Department's consideration.

A more detailed agenda and all meeting documentation can be found at: http://homeport.uscg.mil/NBSAC, no later than April 23, 2014. Alternatively, you may contact Mr. Jeff Ludwig as noted in the FOR FURTHER INFORMATION CONTACT section above.

Dated: April 8, 2014.
Jonathan C. Burton,
Captain, U.S. Coast Guard, Director of Inspections and Compliance.

[FR Doc. 2014-08371 Filed 4-11-14; 8:45 am]

BILLING CODE 9110-04-P